DEPARTMENT OF HOMELAND SECURITY

Transportation Security Administration

Intent To Request Revision From OMB of One Current Public Collection of Information: Law Enforcement/Federal Air Marshal Service Physical and Mental Health Certification

AGENCY: Transportation Security Administration, DHS.

ACTION: 60-day notice.

SUMMARY: The Transportation Security Administration (TSA) invites public comment on one currently approved Information Collection Request (ICR), Office of Management and Budget (OMB) control number 1652-0043, abstracted below that we will submit to OMB for a revision in compliance with the Paperwork Reduction Act (PRA). The ICR describes the nature of the information collection and its expected burden. The collection involves a certification form that applicants for the Law Enforcement/Federal Air Marshal Service are required to complete regarding their mental health history.

DATES: Send your comments by February 4, 2019.

ADDRESSES: Comments may be emailed to TSAPRA@tsa.dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0043; Law Enforcement/Federal Air Marshal Service Physical and Mental Health Certification. Pursuant to 49 U.S.C. 44917, TSA has authority to provide for deployment of Federal Air Marshals (FAMs) on passenger flights and provide for appropriate training, equipping, and supervision of FAMs. Pursuant to this authority, TSA requires that applicants for the Law Enforcement/Federal Air Marshal Service positions meet certain medical and mental health standards.

TSA uses a Mental Health Certification form to facilitate the determination of applicants' and incumbents' ability to meet established medical standards and safely and effectively perform the essential functions of the public safety law enforcement position. TSA is revising the collection to include additional forms to assist in the determination. These forms include a Practical Exercise Performance Requirements (PEPR) form, and a Treating Physician Status Report (TPSR) form, in conjunction with further evaluation requests as needed. TSA is also revising the name of the collection from “Office of Law Enforcement/Federal Air Marshal Service Mental Health Certification” to “Law Enforcement/Federal Air Marshal Service Physical and Mental Health Certification.”

The Law Enforcement/Federal Air Marshal Service (LE/FAMS) has established medical guidelines designed to ensure FAMs can safely and effectively perform the tasks essential to the arduous, rigorous, and hazardous functions of the FAM position. The medical guidelines ensure a level of health status and physical and psychological fitness for this public safety law enforcement position which requires a high degree of responsibility. Medical guidelines are based on cognitive, physical, psychomotor, and psychological abilities related to the essential job functions of a FAM. Medical examinations include, but are not limited to, cardiac, pulmonary, audiometric, and visual acuity testing. Incumbent FAMs undergo medical examinations every other year until the age of 45, and annually thereafter, while in a FAM position. Based on conditions identified during the pre-employment or recurrent periodic examination, the applicant/employee may be required to provide a completed PEPR form, or TPSR form, signed by his/her physician in order to determine if the FAM is medically qualified.

As part of the psychological assessment, applicants are required to complete a Mental Health Certification form related to their mental health history. Applicants are asked questions that may be indicative of mental health conditions that may impact the ability to safely and effectively perform the essential functions of the position. All forms submitted by applicants and incumbents are sent directly to the FAMS Medical Programs Section for initial screening via fax, mail, or in person. Individual responses may require further medical evaluation.

TSA estimates that there will be 600 respondents annually. It will take each respondent approximately one hour to complete the Mental Health Certification form, and 15 minutes per respondent for their doctor to complete two additional forms (the Practical Exercise Performance form and the Treating Physician Status Report form), for a total annual hour burden of 900 hours.

Dated: November 28, 2018.
Christina A. Walsh,
TSA Paperwork Reduction Act Officer, Information Technology.

[FR Doc. 2018-26370 Filed 12-4-18; 8:45 am]

BILLING CODE 9110-05-P